DEPARTMENT OF HOMELAND SECURITY

Federal Emergency Management Agency

[Docket ID: FEMA-2021-0029; OMB No. 1660-0072]

Agency Information Collection Activities: Proposed Collection; Comment Request; Mitigation Grant Programs (including Mitigation (MT) Grants Management (formerly Mitigation (MT) Electronic Grants (eGrants) and FEMA GO) for Flood Mitigation Assistance (FMA), Building Resilient Infrastructure and Communities (BRIC) and Pre-Disaster Mitigation (PDM)

AGENCY: Federal Emergency Management Agency, Department of Homeland Security.

ACTION: 60-Day notice of revision and request for comments.

SUMMARY: The Federal Emergency Management Agency (FEMA), as part of its continuing effort to reduce paperwork and respondent burden, invites the general public and other Federal agencies to take this opportunity to comment on a revision of a currently approved information collection. In accordance with the Paperwork Reduction Act of 1995, this notice seeks comments concerning FEMA's Hazard Mitigation Assistance (HMA) grant programs specifically, the legacy Pre-Disaster Mitigation Program (PDM), the Building Resilient Infrastructure and Communities (BRIC) program, and the Flood Mitigation Assistance (FMA) program. Under FEMA's HMA grant programs, States, local, Tribal, and Territorial governments (SLTTs) seek assistance to support disaster mitigation and provide opportunities to reduce or eliminate potential losses to SLTTs.

DATES: Written comments must be received on or before February 14, 2022.

ADDRESSES: Submit comments at www.regulations.gov under Docket ID FEMA-2021-0029. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Jennie Orenstein, Branch Chief, Policy, Tools and Training Branch, Federal Insurance and Mitigation Administration, FEMA, at jennie.gallardy@fema.dhs.gov, and 202-212-4071. You may contact the Records Management Division for copies of the proposed collection of information at FEMA-Information-Collections-Management@fema.dhs.gov.

SUPPLEMENTARY INFORMATION: This collection of information is necessary to implement grants for the FMA, PDM, and BRIC programs.

The FMA program is authorized pursuant to sec. 1366, 42 U.S.C. 4104c of the National Flood Insurance Act of 1968, as amended. FMA was created as part of the National Flood Insurance Reform Act (NFIRA) of 1994, Public Law 103-325. The Biggert-Waters Flood Insurance Reform Act of 2012 (BW-12), Public Law 112-141, consolidated the Repetitive Flood Claims (RFC) and Severe Repetitive Loss grant (SRL) programs into FMA. Under FMA, cost-share requirements were changed to allow more Federal funds for properties with repetitive flood claims. The FMA program, under 44 CFR part 77 (as of October 1, 2021, previously under 44 CFR part 79), provides funding for measures taken to reduce or eliminate the long-term risk of flood damage to buildings, manufactured homes, and other structures insured under the National Flood Insurance Program (NFIP).

PDM was authorized under sec. 203, 42 U.S.C. 5133, of the Robert T. Stafford Disaster Relief and Emergency Assistance Act (Stafford Act), Public Law 93-288, as amended by sec. 102 of the Disaster Mitigation Act of 2000, Public Law 106-390. As a result of amendments by the Disaster Recovery Reform Act of 2018 (DRRA), Public Law 115-254, the PDM program was replaced with the BRIC program. Therefore, the PDM is established as a legacy program. The PDM program provided grants for cost-effective mitigation actions prior to a disaster event to reduce overall risks to the population and structures, while also reducing reliance on funding from actual disaster declarations. While the last cycle of the PDM program awards were made in Fiscal Year (FY) 2019, information collection will continue in subsequent years for the purposes of grant monitoring and closeout.

On August 4, 2020, FEMA established the BRIC program, implementing Section 1234 of the Disaster Recovery Reform Act (DRRA) Public Law 115-254. BRIC replaced the PDM grant program that was previously authorized under Sec. 203 of the Stafford Act, 42 U.S.C. 5133.

The BRIC program is designed to promote a national culture of preparedness and public safety through encouraging investments to protect our communities and infrastructure and through strengthening national mitigation capabilities to foster resilience. The BRIC program seeks to fund effective and innovative projects that will reduce risk, increase resilience, and serve as a catalyst to encourage the whole community to invest in and adopt policies related to mitigation.

The guiding principles of the BRIC program include: (1) Support State and local governments, Tribes, and territories through capability- and capacity-building, to enable them to identify mitigation actions and implement projects that reduce risks posed by natural hazards; (2) encourage and enable innovation while allowing flexibility, consistency, and effectiveness; (3) promote partnerships and enable high-impact investments to reduce risk from natural hazards with a focus on critical services and facilities, public infrastructure, public safety, public health, and communities; (4) provide a significant opportunity to reduce future losses and minimize impacts on the Disaster Relief Fund; (5) promote equity, including by helping members of disadvantaged groups and prioritizing 40 percent of the benefits to disadvantaged communities as referenced in Executive Order (E.O.) 14008 in line with the Administration's Justice40 Initiative; and (6) support the adoption and enforcement of building codes, standards, and policies that will protect the health, safety, and general welfare of the public, taking into account future conditions, prominently including the effects of climate change, and have long-lasting impacts on community risk reduction, including for critical services and facilities and for future disaster costs. The BRIC program distributes funds annually and applies a Federal/Non-Federal cost share.

In accordance with 2 CFR 200.203, FEMA requires that all parties interested in receiving FEMA mitigation grants to submit an application package for grant assistance. Applications and subapplications for BRIC and FMA are submitted via the appropriate system for the respective programs, FEMAGo and eGrants. Information necessary for the ongoing monitoring and closeout of the PDM program for FY 2019 and prior are to be collected via the e-Grants system. The FEMA GO and eGrants system have been developed to meet the intent of the e-Government initiative, authorized by Public Law 106-107. This initiative requires that all Government agencies both streamline grant application processes and provide for the means to electronically create, review and submit a grant application via the internet.

In order to ensure the timely closeout of grants, 2 CFR 200.329 requires that Non-Federal Entities “must monitor its activities under Federal awards to assure compliance with applicable Federal requirements and performance expectations are being achieved.” Therefore, under 2 CFR part 200 (for BRIC and PDM) and 44 CFR 77.3 (FMA), recipients must complete and submit progress report(s) to the FEMA Regional Administrator on a quarterly basis, certifying how the funds are being used and reporting on the progress of activities funded under the subrecipient awards made to the Recipient by FEMA. The Regional Administrator and Recipient negotiate the date for submission of the first report. Quarterly Progress Reports describe the status of those projects on which a final payment of the Federal share has not been made to the Recipient, and outline any problems or circumstances expected to result in noncompliance with the approved award conditions.

Collection of Information

Title: Mitigation Grant Programs (including Mitigation (MT) Grants Management (formerly Mitigation (MT) Electronic Grants (eGrants) and FEMA GO) for Flood Mitigation Assistance (FMA), Building Resilient Infrastructure and Communities (BRIC) and Pre-Disaster Mitigation (PDM)).

Type of Information Collection: Revision of a currently approved collection.

OMB Number: 1660-0072.

FEMA Forms: FEMA Form Quarterly Progress Report (QPR) (and its instructions) Benefit Cost Determinations, Environmental Reviews, Project Narrative-Sub-Grant Applications, National Review Panel Solicitation (as part of the BRIC application process) and SF forms (as listed in the Supporting Statement).

Abstract: FEMA's FMA and BRIC programs use an automated grant application and management system called FEMA GO. The PDM program uses an automated grant application and management system called MT e-Grants. These grant programs provide funding for the purpose of reducing or eliminating the risks to life and property from hazards. The FEMA GO and eGrants systems include all the application information needed to apply for funding under these grant programs. FEMA and SLTTs use the BRIC Panel Review Form to solicit volunteers from SLTTs and Other Federal Agencies (OFA), to review applications that are routed to the qualitative panel reviews. The volunteers will review, and score applications based on a pre-determined scoring criteria. The PDM, FMA, and BRIC programs will use the same Quarterly Progress Report (QPR) Form.

Affected Public: State, local, Tribal, or Territorial Governments.

Estimated Number of Respondents: 660.

Estimated Number of Responses: 6,596.

Estimated Total Annual Burden Hours: 104,168.

Estimated Total Annual Respondent Cost: $6,175,920.

Estimated Respondents' Operation and Maintenance Costs: $0.

Estimated Respondents' Capital and Start-Up Costs: $0.

Estimated Total Annual Cost to the Federal Government: $7,600,751.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Records Management Branch Chief, Office of the Chief Administrative Officer, Mission Support, Federal Emergency Management Agency,Department of Homeland Security.

[FR Doc. 2021-27030 Filed 12-13-21; 8:45 am]

BILLING CODE 9111-BW-P